FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington DC 20551-0001, not later than February 21, 2024.

A. Federal Reserve Bank of Boston (Prabal Chakrabarti, Senior Vice President) 600 Atlantic Avenue, Boston, Massachusetts 02210-2204. Comments can also be sent electronically to BOS.SRC.Applications.Comments@bos.frb.org:

1. The Walter & Carole Young Living Trust, Stephen U. Samaha, as co-trustee, both of Littleton, New Hampshire, and Neil I. Geschwind, as co-trustee, Melville, New York; and the Sarah W. Samaha Revocable Trust, Sarah W. Samaha, as co-trustee, both of Sugar Hill, New Hampshire and Stephen U. Samaha, as co-trustee; a group acting in concert to retain voting shares of Guaranty Bancorp, Inc., and thereby indirectly retain voting shares of Woodsville Guaranty Savings Bank, both of Woodsville, New Hampshire.

Board of Governors of the Federal Reserve System.
Michele Taylor Fennell,
Deputy Associate Secretary of the Board.

[FR Doc. 2024-02360 Filed 2-5-24; 8:45 am]

BILLING CODE P